ENVIRONMENTAL PROTECTION AGENCY

40 CFR Parts 35 and 735

[FRL-694, 2-7]

RIN: 2030-AA55

Environmental Program Grants—State, Interstate, and Local Government Agencies: Delay of Effective Date

AGENCY: Environmental Protection Agency.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Environmental Program Grants-State, Interstate, and Local Government Agencies, published in the Federal Register on January 9, 2001, 66 FR 1725. This regulation updates, clarifies, and streamlines requirements governing environmental program grants and establishes requirements for the Performance Partnership Grant (PPG) program.

DATES: The effective date of the Environmental Program Grants State, Interstate, and Local Government Agencies, amending 40 CFR parts 35 and 735, published in the Federal Register on January 9, 2001, at 66 FR 1725, is delayed for 60 days, from February 8, 2001, to a new effective date of April 9, 2001. This regulation applies to new grants awarded after April 9, 2001, and it may be applied to currently active PPGs, if agreed to in writing by the Regional Administrator and the recipient.

FOR FURTHER INFORMATION CONTACT: W. Scott McMoran, Grants Administration Division (3903R), United States Environmental Protection Agency, 1200 Pennsylvania Ave., NW, Washington, DC 20460, Telephone: (202) 564-5376, McMoran.Scott@epa.gov.

SUPPLEMENTARY INFORMATION: The temporary 60-day delay in effective date is necessary to give Agency officials the opportunity for further review and consideration of new regulations, consistent with the Assistant to the President's memorandum of January 20, 2001. This action involves matters relating to grants and under 5 U.S.C. 553(a)(2) is thus exempt from the notice and comment requirements of the Administrative Procedure Act.

Dated: January 29, 2001.
David J. O'Connor,
Acting Assistant Administrator, Office of Administration and Resources Management.

[FR Doc. 01-3180 Filed 2-6-01; 8:45 am]

BILLING CODE 6560-50-P